DEPARTMENT OF TRANSPORTATION

Federal Highway Administration

Notice of Final Federal Agency Actions on Proposed Transportation Projects in Florida

AGENCY: Federal Highway Administration (FHWA), USDOT.

ACTION: Notice of limitation of claims for judicial review of actions by FHWA and other Federal Agencies.

SUMMARY: This notice announces actions taken by FHWA and other Federal Agencies since July 25, 2016, that are final. The actions relate to the proposed SR-87 Connector (from SR 87S to SR 87N) in Santa Rosa County; and the I-4 Beyond the Ultimate (BtU) from south of SR 528 to east of SR 472 in Orange, Seminole and Volusia Counties, in the State of Florida. These actions grant licenses, permits, and approvals for the projects.

DATES: A claim seeking judicial review of the Federal agency actions on the listed highway projects will be barred unless the claim is filed on or before March 5, 2018. If the Federal law that authorizes judicial review of a claim provides a time period of less than 150 days for filing such claim, then that shorter time period still applies.

FOR FURTHER INFORMATION CONTACT: For FHWA: Ms. Cathy Kendall, AICP, Senior Environmental Specialist, FHWA Florida Division, 3500 Financial Plaza, Suite 400, Tallahassee, Florida 32312; telephone: (850) 553-2225; email: cathy.kendall@dot.gov. The FHWA Florida Division Office's normal business hours are 7:30 a.m. to 4:00 p.m. (Eastern Standard Time), Monday through Friday, except Federal holidays.

SUPPLEMENTARY INFORMATION: Notice is hereby given that FHWA and other Federal Agencies have taken final agency action by issuing licenses, permits, and approvals for the projects in Florida listed below. The actions by the Federal agencies on a project, and the laws under which such actions were taken, are described in the documented environmental evaluation and assessment study or environmental impact statement (EIS) issued in connection with the project, and in other project records for the listed projects. The Final Evaluation and Assessment Study, or FEIS, Record of Decision (ROD), and other documents from FHWA and other Federal Agency project records for the listed projects are available by contacting the FHWA at the address above, or by using the links provided below.

This notice applies to all Federal agency decisions by issuing licenses, permits, and approvals as of the issuance date of this notice and all laws under which such actions were taken, including but not limited to:

1. General: National Environmental Policy Act (NEPA) [42 U.S.C. 4321-4351; Federal-Aid Highway Act (FAHA) [23 U.S.C. 109 and 23 U.S.C. 128].

2. Air: Clean Air Act (CAA), 42 U.S.C. 7401-7671(q).

3. Land: Section 4(f) of the Department of Transportation Act of 1966 (4f) [49 U.S.C. 303 and 23 U.S.C. 138].

4. Wildlife: Endangered Species Act (ESA) [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended (106) [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 (Civil Rights) [42 U.S.C. 20000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1466]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The projects subject to this notice are:

1. Project Location: Santa Rosa County, SR 87 Connector from SR 87 South to SR 87 North, Federal Project No: SF1 296 R, S129 348 R, TCSP 033 U, T129 348 R. Project type: The project involves a new roadway facility that will directly link SR 87S with SR 87N in the vicinity of Milton. Final agency actions are taken under: NEPA, FAHA, CAA, 4(f), E.O. 12898, etc., and are described in the FEIS and ROD issued on October 20, 2016, and are available at http://www.sr87connector.com/status.html.

2. Project Location: Orange, Seminole, and Volusia Counties, Interstate 4 (I-4) from south of SR 528 to east of SR 472, Federal Project No: 0041 227 I. The project involves the build-out of I-4 in Central Florida to result in three General Use lanes in each direction with the addition of two new Express Lanes in each direction, resulting in a total of ten dedicated lanes. Final agency actions are taken under: NEPA, etc., and are described in the Final Evaluation and Assessment Study and ROD issued on August 24, 2017, and are available at www.i4express.com.

(Catalog of Federal Domestic Assistance Program Number 20.205, Highway Planning and Construction. The regulations implementing Executive Order 12372 regarding intergovernmental consultation on Federal programs and activities apply to this program.)

Authority: 23 U.S.C. 139(l)(1).

Issued on: September 27, 2017.
David Hawk,
Acting Division Administrator, Federal Highway Administration, Tallahassee, Florida.

[FR Doc. 2017-21372 Filed 10-3-17; 8:45 am]

BILLING CODE 4910-RY-P